DEPARTMENT OF ENERGY

Federal Energy Regulatory Commission

[Docket No. RP02-81-000]

El Paso Natural Gas Company; Notice of Tariff Filing

December 6, 2001.

Take notice that on November 29, 2001, El Paso Natural Gas Company (El Paso) tendered for filing as part of its FERC Gas Tariff, the following tariff sheets to become effective January 1, 2002:

Second Revised Volume No. 1-A

Twenty-Second Revised Sheet No. 20

Fifteenth Revised Sheet No. 22

Twenty-First Revised Sheet No. 23

Twenty-Sixth Revised Sheet No. 24

Twenty-First Revised Sheet No. 26

Twenty-First Revised Sheet No. 27

Eighth Revised Sheet No. 37

Eighth Revised Sheet No. 38

Third Revised Volume No. 2

Fiftieth Revised Sheet No. 1-D.2

Forty-Fourth Revised Sheet No. 1-D.3

El Paso states that the above tariff sheets are being filed to adjust its rates for inflation in accordance with its tariff and in accordance with the settlement of its last general rate case.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30717 Filed 12-11-01; 8:45 am]

BILLING CODE 6717-01-P